DEPARTMENT OF THE INTERIOR

Bureau of Indian Affairs

Indian Gaming

AGENCY: Bureau of Indian Affairs, Interior.

ACTION: Notice of Approved Amended Tribal-State Class III Gaming Compact taking effect.

SUMMARY: This notice publishes the Approval of the Amended Tribal-State Compact between the Sisseton-Wahpeton Oyate of the Lake Traverse Reservation and State of South Dakota

DATES: Effective Date: December 28, 2012.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. On November 6, 2012, the Sisseton-Wahpeton Oyate of the Lake Traverse Reservation and State of South Dakota submitted an Amended Class III Tribal-State Compact for review and approval. The Amended Compact increases the number of authorized slot machines to a total of 750 slot machines at both of the Tribe's casinos, and authorizes additional slot machines in stages up to a total of 850 slot machines by 2022.

The Compact shall be reviewed by the Tribe and the State at 10-year intervals with automatic 10-year renewals if neither party objects. The Assistant Secretary—Indian Affairs, Department of the Interior, through his delegated authority, is publishing notice that the Amended Tribal-State Compact between the Sisseton-Wahpeton Oyate of the Lake Traverse Reservation and State of South Dakota is now in effect.

Dated: December 20, 2012.
Kevin K. Washburn,
Assistant Secretary—Indian Affairs.

[FR Doc. 2012-31180 Filed 12-27-12; 8:45 am]

BILLING CODE 4310-4N-P